DEPARTMENT OF JUSTICE

[CPCLO Order No. 001-2009]

Privacy Act of 1974; System of Records

AGENCY: Criminal Division, Department of Justice.

ACTION: Notice of a modification of a system of records.

SUMMARY: Pursuant to the Privacy Act of 1974 (5 U.S.C. 552a), the Criminal Division (CRM), Department of Justice, proposes to modify an existing system of records entitled “Organized Crime Drug Enforcement Task Force Fusion Center System,” JUSTICE/CRM-028, which covers the records maintained by the Organized Crime Drug Enforcement Task Force (OCDETF) Fusion Center, Executive Office for the Organized Crime Drug Enforcement Task Force, Criminal Division, and rename it the “Organized Crime Drug Enforcement Task Force Fusion Center and International Organized Crime Intelligence and Operations Center System.” In recognition of the demonstrated interrelationship between criminal organizations that engage in illicit drug trafficking (and related criminal activities) and those that engage in international organized crime, involving a broader variety of criminal activity, the International Organized Crime Intelligence and Operations Center (IOC-2) and OCDETF formed a partnership. This partnership will facilitate both OCDETF and IOC-2 mission needs by collocating multi-source criminal law enforcement and intelligence data into one central system in order to assist OCDETF and IOC-2 in executing their responsibilities with respect to drug trafficking, international organized crime, money laundering, firearms trafficking, alien smuggling, terrorism, and other enforcement efforts, including the identification, location, arrest and prosecution of suspects, and civil proceedings and other activities related to such enforcement activities. Additionally, two new routine use disclosures are being added to the system notice. Routine use (t) pertains to the suitability/eligibility of an individual for a license or permit and routine use (u) includes notification of a terrorist threat.

DATES: In accordance with 5 U.S.C. 552a(e)(4) and (11), the public is given a 30-day period in which to comment; and the Office of Management and Budget (OMB), which has oversight responsibility under the Act, requires a 40-day period in which to conclude its review of the system. Therefore, please submit any comments by July 13, 2009.

ADDRESSES: The public, OMB, and Congress are invited to submit any comments to the Department of Justice, ATTN: Robin Moss, Privacy Analyst, Office of Privacy and Civil Liberties, Department of Justice, National Place Building, 1331 Pennsylvania Avenue NW., Suite 940, Washington, DC 20530.

FOR FURTHER INFORMATION CONTACT: Director, Executive Office for the Organized Crime Drug Enforcement Task Force, Criminal Division, U.S. Department of Justice, 950 Pennsylvania Avenue NW., Washington, DC 20530-0001.

In accordance with 5 U.S.C. 552a(r), the Department has provided a report to OMB and the Congress on the modified system of records.

Dated: May 28, 2009.
Kirsten J. Moncada,
Acting Chief Privacy and Civil Liberties Officer.

JUSTICE/CRM-028

SYSTEM NAME:

Organized Crime Drug Enforcement Task Force Fusion Center and International Organized Crime Intelligence and Operations Center System.

SECURITY CLASSIFICATION:

Classified, sensitive.

SYSTEM LOCATION:

U.S. Department of Justice, 950 Pennsylvania Avenue NW., Washington, DC 20530-0001.

CATEGORIES OF INDIVIDUALS COVERED BY THE SYSTEM:

1. Individuals charged with, convicted of, or known, suspected, or alleged to be involved with, illicit narcotic trafficking or other potentially related criminal activity, including but not limited to facilitating the transportation of narcotics proceeds, money laundering, firearms trafficking, alien smuggling, and terrorist activity, or involved with international organized crime. For these purposes international organized crime refers to those self-perpetuating associations of individuals who operate internationally for the purpose of obtaining power, influence, monetary and/or commercial gains, wholly or in part by illegal means, while protecting their activities through a pattern of corruption and/or violence, or while protecting their illegal activities through an international organizational structure and the exploitation of international commerce or communication mechanisms. 2. Individuals with pertinent knowledge of some circumstances or aspect of a case or record subject, such as witnesses, associates of record subjects, informants, and law enforcement or intelligence personnel. 3. Individuals, reasonably suspected of engaging in money laundering, other financial crimes, terrorism, and other criminal activity, including individuals referenced in information provided to the Financial Crimes Enforcement Network from financial institutions and other sources. 4. Individuals identified in or involved with the filing, evaluation, or investigation of reports under the Bank Secrecy Act and its implementing regulations. 5. Information about relevant immigrant and nonimmigrant visa applicants, including visa adjudication, issuance, and refusal information is also collected.

CATEGORIES OF RECORDS IN THE SYSTEM:

Records may contain investigative and intelligence information about the individuals in this system, including their identifying information such as, but not limited to, name, social security number, address, physical descriptions of appearance, license plate information, bank account number, location and activities, as well as other data which may assist the Organized Crime Drug Enforcement Task Force (OCDETF) Fusion Center in fulfilling its responsibilities and/or the International Organized Crime Intelligence and Operations Center (IOC-2) in fulfilling its responsibilities. Information includes multi-source data that may assist law enforcement agencies, regulatory agencies, and agencies of the U.S. foreign intelligence community or military community in executing their responsibilities with respect to drug trafficking, international organized crime, money laundering, firearms trafficking, alien smuggling, terrorism, and other enforcement efforts, including the identification, location, arrest and prosecution of suspects, and civil proceedings and other activities related to such enforcement activities. This system of records will not contain Federal tax returns and return information as defined by 26 U.S.C. 6103.

AUTHORITY FOR MAINTENANCE OF THE SYSTEM:

Consolidated Appropriations Act, 2004, Public Law 108-199, 118 Stat. 3 (2004); Comprehensive Drug Abuse Prevention and Control Act of 1970, Public Law 91-513 (84 Stat. 1236); the Single Convention on Narcotic Drugs, 1961; the Organized Crime Control Act of 1970, Public Law 91-452 (84 Stat. 922); the Convention on Transnational Organized Crime, 2004; Executive Order 11396 (1968). Additional authority is derived from Treaties, Statutes, Executive Orders and Presidential Proclamations which the Department of Justice (DOJ) has been charged with administering.

PURPOSE(S):

This system of records will serve two primary purposes. The first purpose of this system of records is to facilitate the mission of the OCDETF Program, which is to reduce the drug supply by identifying, disrupting and dismantling the most significant international and domestic drug supply and money laundering organizations and related criminal operations (e.g., arms traffickers, alien smugglers, terrorists). By establishing a central data warehouse for the compilation, fusion, storage, and comprehensive analysis of drug, financial, and related investigative information, OCDETF expects to produce a more complete picture of the activities of drug trafficking, money laundering, firearms trafficking, alien smuggling, terrorist, and other criminal organizations and their memberships than any one such agency can produce by itself. Specifically, the OCDETF Fusion Center will develop investigative leads, operational intelligence products and strategic intelligence assessments on new or evolving threats. The OCDETF Fusion Center intends to disseminate these analytical products, as appropriate, to Federal, state, local, tribal, territorial, and foreign law enforcement and regulatory agencies and to agencies of the U.S. foreign intelligence community and the military community, to assist them in enforcing criminal, civil, and regulatory laws related to drug trafficking, money laundering, firearms trafficking, alien smuggling, terrorism, and other crimes, including the identification, apprehension, and prosecution of individuals who threaten the United States national and international security and interests through their involvement in such crimes.

The second purpose of this system of records is to facilitate the mission of IOC-2 and its member agencies to significantly disrupt and dismantle those international criminal organizations posing the greatest threat to the United States. By establishing a central data warehouse for the compilation, fusion, storage, and comprehensive analysis of international organized crime, financial, and related investigative information, IOC-2 expects to produce a more complete picture of the activities of international criminal organizations and their memberships than any one such agency can produce by itself. Specifically, IOC-2 will develop investigative leads, operational intelligence products and strategic intelligence assessments on new or evolving threats. IOC-2 intends to disseminate these analytical products, as appropriate, to Federal, state, local, tribal, territorial, and foreign law enforcement and regulatory agencies and to agencies of the U.S. foreign intelligence community and the military community, to assist them in enforcing criminal, civil, and regulatory laws related to organized crime, terrorism, and other crimes, including the identification, apprehension, and prosecution of individuals who threaten the United States national and international security and interests through their involvement in such crimes.

ROUTINE USES OF RECORDS MAINTAINED IN THE SYSTEM, INCLUDING CATEGORIES OF USERS AND THE PURPOSES OF SUCH USES:

Relevant information contained in this system of records may be disclosed as follows:

(a) To any criminal, civil, or regulatory law enforcement authority (whether Federal, state, local, territorial, tribal, or foreign) where the information is relevant to the recipient entity's law enforcement responsibilities.

(b) To a governmental entity lawfully engaged in collecting law enforcement, law enforcement intelligence, or national security intelligence information for such purposes.

(c) To any person or entity if deemed by the Department of Justice to be necessary in order to elicit information or cooperation from the recipient for use by the Department in the performance of an authorized law enforcement activity related to this system.

(d) To the Department of State and components thereof to further the efforts of those agencies with respect to the national security and foreign affairs aspects of international drug trafficking, money laundering, firearms trafficking, alien smuggling, terrorism, and related crimes.

(e) To the Department of Defense and components thereof to support its role in the detection and monitoring of the transportation of illegal drugs and money laundering in the United States or such other roles in support of counter-drug and money laundering law enforcement, counter-firearms trafficking, counter-alien smuggling, and related crimes as may be permitted by law.

(f) To the United Nations and its employees to the extent that the information is relevant to the recipient's law enforcement or international security functions.

(g) To a Member of Congress or staff acting upon the Member's behalf when the Member or staff requests the information on behalf of, and at the request of, the individual who is the subject of the record.

(h) To the White House (the President, Vice-President, their staffs, and other entities of the Executive Office of the President), and, during Presidential transitions, to the President Elect and Vice-President Elect and for their designated transition team staff, for coordination of activities that relate to or have an effect upon the carrying out of the constitutional, statutory, or other official or ceremonial duties of the President, President Elect, Vice-President or Vice-President Elect.

(i) To complainants and/or victims to the extent necessary to provide such persons with information and explanations concerning the progress and/or results of the investigation or case arising from the matters of which they complained and/or of which they were a victim.

(j) In an appropriate proceeding before a court, grand jury, or administrative or adjudicative body, when the Department of Justice determines that the records are arguably relevant to the proceeding; or in an appropriate proceeding before an administrative or adjudicative body when the adjudicator determines the records to be relevant to the proceeding.

(k) To an actual or potential party to litigation or the party's authorized representative for the purpose of negotiation or discussion on such matters as settlement, plea bargaining, or in informal discovery proceedings.

(l) To appropriate officials and employees of a Federal agency or entity that requires information relevant to a decision concerning the hiring, appointment, or retention of an employee; the issuance, renewal, suspension, or revocation of a security clearance; the execution of a security or suitability investigation; the letting of a contract, or the issuance of a grant or benefit.

(m) To designated officers and employees of state, local, territorial, or tribal law enforcement or detention agencies in connection with the hiring or continued employment of an employee or contractor, where the employee or contractor would occupy or occupies a position of public trust as a law enforcement officer or detention officer having direct contact with the public or with prisoners or detainees, to the extent that the information is relevant and necessary to the recipient agency's decision.

(n) To contractors, grantees, experts, consultants, students, and others performing or working on a contract, service, grant, cooperative agreement, or other assignment for the Federal government, when necessary to accomplish an agency function related to this system of records.

(o) To the news media and the public, including disclosures pursuant to 28 CFR 50.2, unless it is determined that release of the specific information in the context of a particular case would constitute an unwarranted invasion of personal privacy.

(p) To such recipients and under such circumstances and procedures as are mandated by Federal statute or treaty.

(q) To the National Archives and Records Administration in records management inspections conducted under the authority of 44 U.S.C. 2904 and 2906.

(r) To a former employee of the Department for purposes of: responding to an official inquiry by a Federal, state, or local government entity or professional licensing authority, in accordance with applicable Department regulations; or facilitating communications with a former employee that may be necessary for personnel-related or other official purposes where the Department requires information and/or consultation assistance from the former employee regarding a matter within that person's former area of responsibility.

(s) To appropriate agencies, entities, and persons when (1) it is suspected or confirmed that the security or confidentiality of information in the system of records has been compromised; (2) the Department has determined that as a result of the suspected or confirmed compromise there is a risk of harm to economic or property interests, identity theft or fraud, or harm to the security or integrity of this system or other systems or programs (whether maintained by the Department or another agency or entity) that rely upon the compromised information; and (3) the disclosure made to such agencies, entities, and persons is reasonably necessary to assist in connection with the Department's efforts to respond to the suspected or confirmed compromise and prevent, minimize, or remedy such harm.

(t) To Federal, state, local, territorial, tribal, foreign, or international licensing agencies or associations which require information concerning the suitability or eligibility of an individual for a license or permit.

(u) To any person, organization, or governmental entity in order to notify them of a serious terrorist threat for the purpose of guarding against or responding to such a treat.

DISCLOSURE TO CONSUMER REPORTING AGENCIES:

None.

POLICIES AND PRACTICES FOR STORING, RETRIEVING, ACCESSING, RETAINING, AND DISPOSING OF RECORDS IN THE SYSTEM:

STORAGE:

Computerized records are stored on hard disk or removable storage devices. Some information, including investigative files and information incorporated into analytical products, may be retained in hard copy format and stored in individual file folders and file cabinets with controlled access, and/or other appropriate GSA-approved security containers.

RETRIEVABILITY:

Access to individual records is gained by use of data retrieval capabilities of computer software acquired and developed for processing of information in the OCDETF Fusion Center and IOC-2 System. Data will be retrieved through a number of criteria, including personal identifying information such as name and social security number.

SAFEGUARDS:

These records are housed in a secure building restricted to DOJ employees and other authorized personnel, and those persons transacting business with the DOJ who are escorted by DOJ or other authorized personnel. Physical and electronic access to the System is safeguarded in accordance with DOJ rules and policies governing automated systems security and access, including the maintenance of technical equipment in restricted areas. The selection of containers or facilities is made in consideration of the sensitivity or National Security Classification as appropriate, of the files. The System is contained in a room secured by intruder alarms and other appropriate physical and electronic security controls. Access to the System terminal(s) are further restricted to DOJ employees, detailees to DOJ from other government agencies, and individual contractors who have authorized access (including individual passwords and identification codes), appropriate security clearances, and a demonstrated and lawful need to know the information in order to perform assigned functions on behalf of the OCDETF Fusion Center and/or IOC-2. All OCDETF Fusion Center and IOC-2 personnel capable of accessing the OCDETF Fusion Center and IOC-2 System will have successfully passed a background investigation. Unauthorized access to the telecommunications terminals is precluded by a complex authentication procedure.

RETENTION AND DISPOSAL:

Records in this system are maintained and disposed of in accordance with appropriate authority of the National Archives and Records Administration.

SYSTEM MANAGER AND ADDRESS:

Director, Executive Office for the Organized Crime Drug Enforcement Task Force, Criminal Division, U.S. Department of Justice, 950 Pennsylvania Avenue NW., Washington, DC 20530-0001.

NOTIFICATION PROCEDURE:

Inquires should be addressed to: OCDETF Fusion Center Privacy Act/FOIA Unit, OCDETF Fusion Center, Executive Office for the Organized Crime Drug Enforcement Task Force, Criminal Division, U.S. Department of Justice, 950 Pennsylvania Avenue NW., Washington, DC 20530-0001.

RECORD ACCESS PROCEDURES:

A request for access to a record from this system shall be made in writing to the System Manager, with the envelope and the letter clearly marked “Privacy Access Request.” The request should include a general description of the records sought and must include the requester's full name, current address, and date and place of birth. The request must be signed and dated and either notarized or submitted under penalty of perjury. Some information may be exempt from access provisions as described in the section entitled “Exemptions Claimed for the System.” An individual who is the subject of a record in this system may access those records that are not exempt from disclosure. A determination whether a record may be accessed will be made at the time a request is received.

CONTESTING RECORD PROCEDURES:

Individuals desiring to contest or amend information maintained in the system should direct their requests according to the Record Access Procedures listed above, stating clearly and concisely what information is being contested, the reasons for contesting it, and the proposed amendment to the information sought. Some information is not subject to amendment, such as tax return information. Some information may be exempt from contesting record procedures as described in the section entitled “Exemptions Claimed for the System.” An individual who is the subject of a record in this system may amend those records that are not exempt. A determination whether a record may be amended will be made at the time a request is received.

RECORD SOURCE CATEGORIES:

Information provided by Federal, state, local, tribal, territorial, and foreign law enforcement agencies; agencies of the U.S. foreign intelligence community and military community; and open sources, such as broadcast and print media and publicly-available data bases.

EXEMPTIONS CLAIMED FOR THE SYSTEM:

The Attorney General has exempted this system from subsections (c)(3) and (4); (d)(1), (2), (3), and (4); (e)(1), (2), (3), (4)(G), (H) and (I), (5), and (8); (f); and (g) of the Privacy Act. The exemptions will be applied only to the extent that information in a record is subject to exemption pursuant to 5 U.S.C. 552a (j) and/or (k). A determination as to exemption shall be made at the time a request for access or amendment is received. Rules have been promulgated in accordance with the requirements of 5 U.S.C. 553(b), (c) and (e) and are published in today's Federal Register.

[FR Doc. E9-12860 Filed 6-2-09; 8:45 am]

BILLING CODE 4410-14-P